DEPARTMENT OF VETERANS AFFAIRS

Medical Research Service Merit Review Committee, Meetings

The Department of Veterans Affairs gives notice under the Federal Advisory Committee Act, 5 U.S.C. App., of the following meetings to be held from 8 a.m. to 5 p.m. as indicated below:

Subcommittee for | Date | Location
Respiration | September 18, 2000 | Holiday Inn Central.
Nephrology | September 20, 2000 | Holiday Inn Central.
Mental Hlth & Behavioral Sciences | September 21-22, 2000 | Holiday Inn Central.
Aging & Clinical Geriatrics | September 25, 2000 | Holiday Inn Central.
Gastroenterology | September 25-26, 2000 | Holiday Inn Central.
Cardiovascular Studies | September 29, 2000 | Holiday Inn Central.
Epidemiology | September 29, 2000 | Holiday Inn Central.
Surgery | October 2, 2000 | Holiday Inn Central.
Endocrinology | October 5-6, 2000 | Holiday Inn Central.
Alcohol & Drug Dependence | October 6, 2000 | Holiday Inn Central.
Infectious Diseases | October 12-13, 2000 | Holiday Inn Central.
Neurobiology-C | October 13, 2000 | Holiday Inn Central.
General Medical Science | October 16-17, 2000 | Washington Plaza.
Oncology | October 16-18, 2000 | Holiday Inn Central.
Hematology | October 19, 2000 | Washington Plaza.
Immunology | October 26-27, 2000 | Holiday Inn Central.
Neurobiology-D | October 26-27, 2000 | Holiday Inn Central.
Medical Research Service Merit Review Committee | December 7, 2000 | Holiday Inn Central.

The addresses of the hotels are:

Holiday Inn Central, 1501 Rhode Island Avenue, NW, Washington, DC 20005.

Washington Plaza, 10 Thomas Circle, NW, Washington, DC 20005.

These subcommittee meetings will be for the purpose of evaluating the scientific merit of research conducted in each specialty by Department of Veterans Affairs (VA) investigators working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to, and oral review of site visits, staff and consultant critiques of research protocols and similar documents. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended by Public Law 94-409, closing portions of these subcommittee meetings is in accordance with 5 U.S.C., 552b(c) (6) and (9)(B). Those who plan to attend or would like to obtain a copy of minutes of the subcommittee meetings and rosters of the members of the subcommittees should contact LeRoy Frey, Chief, Program Review Division, Medical Research Service, Department of Veterans Affairs, Washington, DC, (202) 408-3630.

Dated: August 18, 2000.
By Direction of the Acting Secretary.
Marvin R. Eason,
Committee Management Officer.

[FR Doc. 00-21723 Filed 8-24-00; 8:45 am]

BILLING CODE 8320-01-M